SECURITIES AND EXCHANGE COMMISSION

Proposed Collection; Comment Request

Upon Written Request, Copies Available From: Securities and Exchange Commission, Office of Filings and Information Services, Washington, DC 20549.

Extension:

Regulation S: OMB Control No. 3235-0357; SEC File No. 270-315.

Rule 13e-3 (Schedule 13E-3): OMB Control No. 3235-0007; SEC File No. 270-1.

Notice is hereby given that pursuant to the Paperwork Reduction Act of 1995 (44 U.S.C. 3501 et seq.) the Securities and Exchange Commission (“Commission”) is soliciting comments on the collections of information summarized below. The Commission plans to submit these existing collections of information to the Office of Management and Budget for extension and approval.

Regulation S (OMB Control No. 3235-0357; SEC File No. 270-315) includes rules governing offers and sales of securities made outside the United States without registration under the Securities Act of 1933. The purpose of Regulation S is to provide clarification of the extent to which Section 5 of the Securities Act applies to sales and re-sales of securities outside of the United States. Regulation S is assigned one burden hour for administrative convenience.

Rule 13e-3 and Schedule 13E-3 (OMB Control No. 3235-0007; SEC File No. 270-1)—Rule 13e-3 prescribes the filing, disclosure and dissemination requirements in connection with an on going private transaction by an issuer or an affiliate. Schedule 13E-3 provides shareholders and the marketplace with information concerning on going private transactions that is important in determining how to respond to such transactions. The information collected permits verification of compliance with securities laws requirements and ensures the public availability and dissemination of the collected information. Approximately 600 issuers file Schedule 13E-3 annually and it takes approximately 137.25 hours per response for a total of 82,350 annual burden hours. It is estimated that 25% of the 82,350 total burden hours (20,588 burden hours) is prepared by the company. The remaining 75% of the total burden is attributed to outside cost.

Written comments are invited on: (a) Whether these collections of information are necessary for the proper performance of the functions of the agency, including whether the information will have practical utility; (b) the accuracy of the agency's estimate of the burden of the collections of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Office of Information Technology, Securities and Exchange Commission, 450 Fifth Street NW., Washington, DC 20549.

Dated: August 30, 2004.
Margaret H. McFarland,
Deputy Secretary.

[FR Doc. 04-20374 Filed 9-8-04; 8:45 am]

BILLING CODE 8010-01-M